SMALL BUSINESS ADMINISTRATION

Regulatory Fairness Hearing: Region VIII—Salt Lake City, Utah

AGENCY: U.S. Small Business Administration (SBA).

ACTION: Notice of open hearing of Region VIII small business owners in Salt Lake City, Utah.

SUMMARY: The SBA, Office of the National Ombudsman is issuing this notice to announce the location, date and time of the Salt Lake City, Utah Regulatory Fairness Hearing. This hearing is open to the public.

DATES: The hearing will be held on Wednesday, March 9, 2016, from 9:00 a.m. to 12:30 p.m. (MST).

ADDRESSES: The hearing will be at the Salt Lake City Public Library, 210 East 400 South Street, 4th Floor Meeting Room, Salt Lake City, Utah 84111.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Salt Lake City, Utah hearing must contact Elahe Zahirieh by March 5, 2016, in writing by fax at 202-481-6062 or 202-481-5719 or email at ombudsman@sba.gov in order to be placed on the agenda. For further information, please contact Elahe Zahirieh, Case Management Specialist, Office of the National Ombudsman, 409 3rd Street SW., Suite 330, Washington, DC 20416, by phone (202) 205-6499 and fax (202) 481-6062. Additionally, if you need accommodations because of a disability, translation services, or require additional information, please contact Elahe Zahirieh as well.

For more information on the Office of the National Ombudsman, see our Web site at www.sba.gov/ombudsman.

Dated: February 12, 2016.
Miguel J. L'Heureux,
SBA Committee Management Officer.

[FR Doc. 2016-03765 Filed 2-22-16; 8:45 am]

BILLING CODE 8025-01-P